DEPARTMENT OF COMMERCE

National Oceanic and Atmospheric Administration

RIN 0648-XE595

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Wednesday and Thursday, May 25-26, 2016, beginning at 1 p.m. on May 25 and conclude by 1 p.m. on May 26. For agenda details, see SUPPLEMENTARY INFORMATION.

ADDRESSES: The meeting will at the Royal Sonesta Harbor Court, 550 Light Street, Baltimore, MD 21202; telephone: (410) 234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: Agenda items to be discussed at the SSC meeting include: Review fishery performance report and multi-year ABC specifications for long-finned and short finned squid, Atlantic mackerel and butterfish; discuss MAFMC risk policy and assignment of CVs for Mid-Atlantic assessments; review fishery performance report and recommend surfclam and ocean quahog ABC specifications for 2017-18.

Dated: May 3, 2016.
Tracey L. Thompson,
Acting Deputy Director, Office of Sustainable Fisheries, National Marine Fisheries Service.

[FR Doc. 2016-10691 Filed 5-5-16; 8:45 am]

BILLING CODE 3510-22-P